DEPARTMENT OF LABOR

Office of the Secretary

Submission for OMB Review: Comment Request

June 14, 2006.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Application for Farm Labor Contractor or Farm Labor Contractor Employee Certificate of Registration.

OMB Number: 1215-0037.

Form Number: WH-530.

Frequency: On occasion and Biennially.

Type of Response: Reporting.

Affected Public: Individuals or households; Business or other for-profit; and Farms.

Number of Respondents: 7,800.

Annual Reponses: 7,800.

Average Response Time: 30 minutes.

Total Annual Burden Hours: 3,900.

Total Annualized capital/startup costs: $0.

Total Annual Costs (operating/maintaining systems or purchasing services): $2,130.

Description: Migrant and Seasonal Agricultural Worker Protection Act (MSPA), 29 U.S.C. 1801 et seq., section 101(a) provides that no person shall engage in any farm labor contracting activity unless such person has a certificate of registration from the Secretary of Labor specifying which farm labor contracting activities such person is authorized to perform. Contracting activities include recruiting, soliciting, hiring, employing, furnishing, transporting or driving any migrant or seasonal agricultural worker and, with respect to migrant agricultural workers, providing housing. MSPA section 101(b) provides that a farm labor contractor shall not hire, employ or use any individual to perform farm labor contracting activities (i.e. recruiting, soliciting, hiring, employing, furnishing or transporting any migrant or seasonal agricultural worker) unless such individual has a certificate of registration as a farm labor contractor, or a certificate of registration as an employee of a farm labor contractor employer, which authorizes the activity for which such individual is hired, employed or used. Section 102 of MSPA provides that, after appropriate investigation and review, the Secretary shall issue a farm labor contractor certificate of registration (including a certificate of registration as an employee of a farm labor contractor) to any person who has filed with the Secretary a written application. Form WH-530 is the application form which provides the Department of Labor with the information necessary to issue certificates specifying the farm labor contracting activities authorized.

Agency: Employment Standards Administration.

Type of Review: Extension of currently approved collection.

Title: Notice of Termination, Suspension, Reduction, or Increase in Benefit Payments.

OMB Number: 1215-0064.

Form Number: CM-908.

Frequency: On occasion and Annually.

Type of Response: Reporting.

Affected Public: Business or other for-profit.

Number of Respondents: 325.

Annual Reponses: 7,500.

Average Response Time: 12 minutes.

Total Annual Burden Hours: 1,500.

Total Annualized capital/startup costs: $0.

Total Annual Costs (operating/maintaining systems or purchasing services): $6,300.

Description: The Office of Workers' Compensation Programs (OWCP) administers the Federal Mine Safety and Health Act of 1977 as amended, Section 432 (30 U.S.C. 942) and 20 CFR 725.621 necessitate this information collection. Under the Act, coal mine operators, their representatives, or their insurers who have been identified as responsible for paying Black Lung benefits to an eligible miner or an eligible surviving dependent of the miner, are called Responsible Operators (RO's). RO's that pay benefits are required to report any change in the benefit amount to the Department of Labor (DOL). The CM-908, when completed and sent to DOL, notifies DOL of the change in the beneficiary's benefit amount and the reason for the change.

Agency: Employment Standards Administration.

Type of Review: Extension of currently approved collection.

Title: Regulations Governing the Administration of the Longshore and Harbor Workers' Compensation Act.

OMB Number: 1215-0160.

Frequency: On occasion and Annually.

Type of Response: Reporting and Recordkeeping.

Affected Public: Individuals or households and Business or other for-profit.

Number of Respondents: 182,068.

Collection of Information | Estimated number of annual response | Average response time (hours) | Estimated annual burden hours
LS-200 (20 CFR 702.285) | 14,352 | 0.17 | 2,440
702.162 (Liens) | 10 | 0.50 | 5
702.174 (Certifications) | 5 | 0.75 | 4
702.175 (Reinstatements) | 2 | 0.50 | 1
702.242 (Settlement Applications) | 5,040 | 2.00 | 10,080
702.321 (Section 8(f) Payments) | 485 | 5.00 | 2,425
ESA-100 (20 SFR 702.201) | 42,000 | 0.02 | 840
LS-271 (Self Insurance Application) | 20 | 2.00 | 40
LS-274 (Injury Report of Insurance Carrier and Self-Insured Employer) | 619 | 1.00 | 619
LS-201 (Injury or Death Notice) | 5,040 | 0.25 | 1,260
LS-513 (Payment Report) | 619 | 0.50 | 309
LS-267 (Claimant's Statement) | 1,456 | 0.03 | 48
LS-203 (Employee Comp. Claim) | 11,340 | 0.25 | 2,835
LS-204 (Medical Report) | 100,800 | 0.50 | 50,400
LS-262 (Claim for Death Benefits) | 280 | 0.25 | 70
Total: | 182,068 |  | 71,376

Total Annualized capital/startup costs: $0.

Total Annual Costs (operating/maintaining systems or purchasing services): $64,871.

Description: The Office of Workers' Compensation Programs (OWCP) administers the Longshore and Harbor Workers' Compensation Act (LHWCA), as amended (20 CFR 702.162, 702.174, 702.175, 20 CFR 702.242, 20 CFR 702.285, 702.321, 702.201, and 702.111) as it pertains to the provision of benefits to workers injured in maritime employment on the navigable waters of the United States or in an adjoining area customarily used by an employer in loading, unloading, repairing, or building a vessel, as well as coverage extended to certain other employees. The Longshore Act administration requirements include: Payment of compensation liens incurred by Trust Funds; certification of exemption and reinstatement of employers who are engaged in the building, repairing, or dismantling of exclusively small vessels; settlement of cases under the Act; reporting of earnings by injured claimants receiving benefits under the Act; filing applications for relief under second injury provisions; and, maintenance of injury reports under the Act.

Agency: Employment Standards Administration.

Type of Review: Extension of currently approved collection.

Title: Rehabilitation Maintenance Certificate.

OMB Number: 1215-0161.

Form Number: OWCP-17.

Frequency: On occasion.

Type of Response: Reporting.

Affected Public: Individuals or households and Business or other for-profit.

Number of Respondents: 1,300.

Annual Reponses: 15,600.

Average Response Time: 10 minutes.

Total Annual Burden Hours: 2,605.

Total Annualized capital/startup costs: $0.

Total Annual Costs (operating/maintaining systems or purchasing services): $0.

Description: The Office of Workers' Compensation Programs (OWCP) administers the Longshore and Harbor Workers' Compensation Act (LHWCA) and the Federal Employees' Compensation Act (FECA). These Acts provide vocational rehabilitation services to eligible workers with disabilities. Section 8111(b) of the FECA and section 908(g) of the LHWCA provide that persons undergoing such vocational rehabilitation may receive maintenance allowances as additional compensation. The OWCP-17 serves as a bill submitted by the program participant to OWCP, requesting reimbursement of incidental expenses incurred due to participation in an approved rehabilitation effort for the preceding four week period or fraction thereof.

Ira L. Mills,
Departmental Clearance Officer.

[FR Doc. E6-9713 Filed 6-20-06; 8:45 am]

BILLING CODE 4510-23-P